DEPARTMENT OF THE INTERIOR

Bureau of Land Management

[PO #4820000251; Order #02412-014-004-047181.0]

Rescission and Termination of the Environmental Impact Statement Analyzing the Potential Environmental Effects From Maintaining Secretary Jewell's Coal Leasing Moratorium

AGENCY: Bureau of Land Management, Interior.

ACTION: Notice of rescission and termination.

SUMMARY: The Bureau of Land Management (BLM), Headquarters Solid Minerals is announcing the rescission of the Notice of Intent to prepare an environmental impact statement (EIS) and termination of the EIS analyzing the potential environmental effects from maintaining Secretary Jewell's coal leasing moratorium.

DATES: This rescission and termination takes effect immediately.

FOR FURTHER INFORMATION CONTACT: Indra Dahal, Solid Minerals Deputy Division Chief, at 571-458-6637, or by email to idahal@blm.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: Pursuant to the National Environmental Policy Act of 1969 (NEPA), the BLM published on May 1, 2023, its Notice of Intent (NOI) to prepare an EIS to analyze the potential environmental effects from maintaining Secretary Jewell's coal leasing moratorium (88 FR 26588). The EIS would have analyzed the potential effects from maintaining or revoking former Secretary of the Interior Sally Jewell's coal leasing moratorium.

Background Information: In January 2016, then-Secretary of the Interior Sally Jewell issued Secretary's Order 3338 (Jewell Order) commencing preparation of a new programmatic EIS and establishing a moratorium on Federal coal leasing, with some exemptions.

On March 29, 2017, then-Secretary of the Interior Ryan Zinke implemented Executive Order (E.O.) 13783, “Promoting Energy Independence and Economic Security,” by issuing Secretary's Order 3348 (Zinke Order), which rescinded the Jewell Order and ended the moratorium on coal leasing. Immediately thereafter, Citizens for Clean Energy, Ecocheyenne, Montana Environmental Information Center, Center for Biological Diversity, Defenders of Wildlife, Sierra Club, WildEarth Guardians, and the Northern Cheyenne Tribe filed a lawsuit in the U.S. District Court for the District of Montana asserting that the issuance of the Zinke Order required an environmental analysis in compliance with NEPA. Additionally, the States of California, New York, New Mexico, and Washington also filed suit and the Court consolidated the cases. The National Mining Association and the States of Wyoming and Montana intervened.

On April 19, 2019, the Court held that the Zinke Order was a final agency action that triggered the need to comply with NEPA, requiring the Department to conduct an appropriate environmental review of that action. To comply with the Court's Order, the BLM released an environmental assessment (EA) for public comment on May 22, 2019, and published the final EA and a Finding of No Significant Impact (FONSI) on its website on February 26, 2020. Shortly thereafter, the Plaintiffs amended their complaints to challenge the scope and content of the EA.

On January 20, 2021, President Biden issued E.O. 13990, entitled, “Executive Order on Protecting Public Health and the Environment and Restoring Science to Tackle the Climate Crisis,” revoking E.O. 13783. On April 16, 2021, Secretary Haaland rescinded the Zinke Order through Secretary's Order 3398 (Haaland Order) but did not reinstate the Federal coal leasing moratorium.

On August 12, 2022, the Court vacated and remanded the EA and associated FONSI and reinstated “[t]he coal leasing program moratorium established by the Jewell Order until the completion of sufficient NEPA review analyzing revocation of the moratorium.” That court ruling was the impetus for publishing the BLM's NOI to prepare an EIS to analyze the potential environmental effects from maintaining Secretary Jewell's coal leasing moratorium on May 1, 2023 (88 FR 26588).

In October 2022, Intervenor-Defendants appealed the decision to the U.S. Court of Appeals for the Ninth Circuit. On February 21, 2024, the Ninth Circuit ruled that the District Court's ruling was incorrect, that the Haaland Order definitively revoked the Zinke Order in its entirety, and that the repeal of the Zinke Order is enough to render the case moot and appropriate for dismissal. For those reasons, the Ninth Circuit vacated and remanded the District Court decision with instructions to dismiss the case as moot. As a result, there is no Jewell Order coal leasing moratorium in effect to analyze, and the BLM is rescinding the Notice of Intent to prepare an EIS and is terminating the EIS announced in the Federal Register at 88 FR 26588.

(Authority: 40 CFR 1501.9)

Mitchell Leverette,
Acting Assistant Director, Energy, Minerals, and Realty Management.

[FR Doc. 2025-06388 Filed 4-14-25; 8:45 am]

BILLING CODE 4331-29-P